DEPARTMENT OF HOMELAND SECURITY

Coast Guard

33 CFR Part 181

[Docket No. USCG-2012-0843]

Hull Identification Numbers for Recreational Vessels

AGENCY: Coast Guard, DHS.

ACTION: Request for public comments.

SUMMARY: The Coast Guard announces that it is requesting public comments regarding the existing regulatory requirement to indicate a boat's model year as part of the 12-character Hull Identification Number (HIN). Under current regulations in 33 CFR part 181, the HIN must consist of 12 characters, the last two of which indicate the boat's model year. This notice requests public comments on whether we should continue to require model year as part of the HIN or change the regulatory definition of “model year.”

DATES: Comments and related material must either be submitted to our online docket via http://www.regulations.gov on or before November 27, 2012 or reach the Docket Management Facility by that date.

ADDRESSES: You may submit comments identified by docket number USCG-2012-0843 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions about this notice, call or email Mr. Jeff Ludwig, U.S. Coast Guard; telephone 202-372-1061, email Jeffrey.A.Ludwig@uscg.mil. If you have questions about viewing or submitting material to the docket, call Ms. Renee V. Wright, Program Manager, Docket Operations, telephone 202-366-9826.

SUPPLEMENTARY INFORMATION:

Public Participation and Request for Comments

We encourage you to submit comments and related material on this notice. All comments received will be posted, without change, to http://www.regulations.gov and will include any personal information you have provided.

Submitting comments: If you submit a comment, please include the docket number for this notice (USCG-2012-0843) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov and use “USCG-2012-0843” as your search term. Locate this notice in the search results and click the “Comment Now” box to submit your comment. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing Public Comments: To view the comments, go to http://www.regulations.gov and use “USCG-2012-0843” as your search term. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

Under 46 U.S.C. 4302, the Coast Guard is authorized to promulgate regulations that require the display of a HIN on recreational boats as part of the Coast Guard's boating safety requirements. HINs are used in recall notification campaigns to identify all boats that may contain a defect which creates a substantial risk of personal injury to the public or fail to comply with required recreational boating safety standards. Accurate HINs are an important tool in recall campaigns.

When originally adopted in 1972, 33 CFR 181.25 required that boats display a 12-character HIN. Characters 1-3 consisted of the manufacturer identification number. Characters 4-8 consisted of the manufacturer serial number specific for that boat. Characters 9-12 could indicate either the boat's date of certification or model year. Also, as originally adopted, 33 CFR 181.3 defined the term “model year” to mean “the period beginning August 1 of any year and ending on July 31 of the following year. Each model year is designated by the year in which it ends.”

This notice deals with the portion of the HIN that indicates a boat's model year. Since the HIN requirement was originally adopted, the Coast Guard has received numerous comments and suggestions regarding whether and how HINs should indicate the boat's model year. In 1983, the Coast Guard changed the HIN requirement with respect to characters 9-12 to the current regulatory requirement as follows: Characters 9-10 indicate the month and year of certification, when certification is required. When certification is not required, characters 9-10 indicate the date of manufacture. Characters 11-12 indicate the vessel's model year. The definition of “model year” remains as “the period beginning August 1 of any year and ending on July 31 of the following year. Each model year is designated by the year in which it ends.”

Some manufacturers desire more flexibility to vary the introduction date of the new model year from year to year, and argue that the current regulatory definition of “model year” prevents them from doing so. We attempted to address this issue in a rulemaking effort that commenced in 1994 and ended in 2000. On May 6, 1994, we published a notice of proposed rulemaking (NPRM) regarding HIN requirements that included a proposal to remove the regulatory definition of “model year” altogether in response to manufacturer calls for flexibility (See 59 FR 23651). In response to this proposal, we received public comments both in favor of and opposed to removing the definition of “model year” from the regulations. Accordingly, in a supplemental notice of proposed rulemaking (SNPRM) published on February 21, 1997, we proposed to revise the definition of “model year” instead of removing it altogether (See 62 FR 7971). The SNPRM proposed to define “model year” to mean “the calendar year (January 1 through December 31) of, or the calendar year following (1) The boat's date of manufacture; or (2) If the boat is required to be certified, its date of certification.” We note that in October 1997, the National Boating Safety Advisory Council passed a motion in favor of the existing regulatory definition instead of the one we proposed in the SNPRM. For reasons beyond the scope of this notice, we terminated the rulemaking effort on June 29, 2000 (See 65 FR 40069).

The definition of “model year” for HIN purposes and the requirement to indicate model year as part of the HIN continue to remain issues of concern to multiple interests. We are reconsidering whether the regulatory requirement to indicate model year as part of the HIN advances boating safety. Therefore, we are seeking public comments on how to address these issues. We encourage public comment on these issues in general, and particularly request public comments on any or all of the following specific questions:

1. Should Coast Guard regulations retain the current definition of “model year” in 33 CFR 181.3?

2. Should Coast Guard regulations revert to a previous HIN format that did not specify model year, but simply indicated the date of certification or date of completion of the boat by month and year (e.g., “0612” to indicate June 2012)?

3. Should Coast Guard regulations change the definition of “model year” in 33 CFR 181.3 as proposed in the February 17, 1997 SNPRM to mean “the calendar year (January 1 through December 31) of, or the calendar year following (1) The boat's date of manufacture; or (2) If the boat is required to be certified, its date of certification”?

4. Should Coast Guard regulations replace the definition of “model year” in 33 CFR 181.3 with some other definition?

5. Should the Coast Guard delete the current definition of model year, revert to a previous HIN format that did not specify model year but simply showed the date of certification or date of production of the boat by month and year, and allow the manufacturer the option of adding a model year designation separate from the HIN, e.g. ABC123450412 [2013] (showing the boat was completed in April of 2012 and the manufacturer has determined it to be a 2013 model)?

6. In what ways does the requirement to indicate model year as part of the HIN advance boating safety?

We request comments from all interested parties to ensure that we identify the full range and significance of these issues.

This notice is issued under authority of 46 U.S.C. 4302, 5 U.S.C. 552(a), 33 CFR 1.05-1, and DHS Delegation 0170.1(92).

Dated: September 14, 2012.
Paul F. Thomas,
Captain, U.S. Coast Guard, Director of Inspections and Compliance.

[FR Doc. 2012-23771 Filed 9-27-12; 8:45 am]

BILLING CODE 9110-04-P